NATIONAL ARCHIVES AND RECORDS ADMINISTRATION

36 CFR Parts 1253, 1254, and 1280

[NARA-10-0004]

RIN 3095-AB68

Changes to NARA Facilities' Hours of Operation

AGENCY: National Archives and Records Administration.

ACTION: Final rule.

SUMMARY: The National Archives and Records Administration (NARA) is changing its regulations that provide NARA facilities' hours of operation. NARA facilities' hours of operation will no longer be listed in the Code of Federal Regulations (CFR). Further, NARA offices must follow specific procedures when changing facilities' hours of operation. These procedures provide the public with advance notice of any proposed changes in hours and will include justification for the change in writing. Note that there are no proposed changes to hours of operation at any NARA facility at this time.

DATES: This rule is effective December 27, 2010.

FOR FURTHER INFORMATION CONTACT: Stuart Culy on (301) 837-0970 or Laura McCarthy on (301) 837-3023.

SUPPLEMENTARY INFORMATION: On September 8, 2010, NARA published a proposed rule in the Federal Register (75 FR 54543) for a 60-day public comment period. This proposed rule changed NARA's regulations for providing NARA facilities' hours of operation and established procedures which NARA offices must follow when changing facilities' hours of operation. The public comment period closed on November 8, 2010. NARA received no comments.

This proposed rule is not a significant regulatory action for the purposes of Executive Order 12866 and has not been reviewed by the Office of Management and Budget. As required by the Regulatory Flexibility Act, I certify that this rule will not have a significant impact on a substantial number of small entities because it affects Federal agencies and individual researchers. This regulation does not have any federalism implications.

List of Subjects in 36 CFR Parts 1253, 1254 and 1280

Archives and records, Buildings and facilities.

For the reasons set forth in the preamble, NARA amends 36 CFR parts 1253, 1254 and 1280 to read as follows:

1. Revise part 1253 to read as follows:

PART 1253—LOCATION OF NARA FACILITIES AND HOURS OF USE

Sec.
1253.1 National Archives Building.
1253.2 National Archives at College Park.
1253.3 Presidential Libraries.
1253.4 Washington National Records Center.
1253.5 National Personnel Records Center.
1253.6 Records Centers.
1253.7 Regional Archives.
1253.8 Federal Register.
1253.9 Federal Holidays.
1253.10 Notification Process for Changes in Hours.

Authority: 44 U.S.C. 2104(a).

§ 1253.1 National Archives Building.

The National Archives Building is located at 700 Pennsylvania Avenue, NW., Washington, DC 20408. Hours for the Research Center and the Central Research Room are posted at http://www.archives.gov. The exhibit areas' hours of operation are also posted at http://www.archives.gov. Last admission to the exhibit areas of the building will be no later than 30 minutes before the stated closing hour. The phone number for the National Archives Building is 202-357-5000.

§ 1253.2 National Archives at College Park.

The National Archives at College Park is located at 8601 Adelphi Road, College Park, MD 20740-6001. Hours for the Research Center are posted at http://www.archives.gov. The phone number for the Research Center is 800-234-8861.

§ 1253.3 Presidential Libraries.

Hours for the Presidential libraries' research rooms are posted at http://www.archives.gov. The Presidential library museums are open every day except Thanksgiving, December 25, and January 1 (with the exception of the Lyndon Baines Johnson Library which is only closed December 25). For more specific information about museum hours, please contact the libraries directly or visit the NARA Web site at http://www.archives.gov. Contact information for each library is as follows:

(a) Herbert Hoover Library is located at 210 Parkside Dr., West Branch, IA (mailing address: P.O. Box 488, West Branch, IA 52358-0488). The phone number is 319-643-5301 and the fax number is 319-643-6045. The e-mail address is hoover.library@nara.gov.

(b) Franklin D. Roosevelt Library is located at 4079 Albany Post Rd., Hyde Park, NY 12538-1999. The phone number is 800-FDR-VISIT or 845-486-7770 and the fax number is 845-486-1147. The e-mail address is roosevelt.library@nara.gov.

(c) Harry S. Truman Library is located at 500 W. U.S. Hwy 24, Independence, MO 64050-1798. The phone number is 800-833-1225 or 816-268-8200 and the fax number is 816-268-8295. The e-mail address is truman.library@nara.gov.

(d) Dwight D. Eisenhower Library is located at 200 SE. Fourth Street, Abilene, KS 67410-2900. The phone number is 877-RING-IKE or 785-263-4751 and the fax number is 785-263-6718. The e-mail address is eisenhower.library@nara.gov.

(e) John Fitzgerald Kennedy Library is located at Columbia Point, Boston, MA 02125-3398. The phone number is 866-JFK-1960 or 617-514-1600 and the fax number is 617-514-1652. The e-mail address is kennedy.library@nara.gov.

(f) Lyndon Baines Johnson Library and Museum is located at 2313 Red River St., Austin, TX 78705-5702. The phone number is 512-721-0200 and the fax number is 512-721-0170. The e-mail address is johnson.library@nara.gov.

(g) Richard Nixon Library, California is located at 18001 Yorba Linda Boulevard, Yorba Linda, CA 92886-3903. The phone number is 714-983-9120 and the fax number is 714-983-9111. The e-mail address is nixon@nara.gov. Richard Nixon Library, Maryland is located at 8601 Adelphi Road, College Park, MD 20740-6001. The phone number is 301-837-3290 and the fax number is 301-837-3202. The e-mail address is nixon@nara.gov.

(h) Gerald R. Ford Library is located at 1000 Beal Avenue, Ann Arbor, MI 48109-2114. The phone number is 734-205-0555 and the fax number is 734-205-0571. The e-mail address is ford.library@nara.gov. Gerald R. Ford Museum is located at 303 Pearl St., Grand Rapids, MI 49504-5353. The phone number is 616-254-0400 and the fax number is 616-254-0386. The e-mail address is ford.museum@nara.gov.

(i) Jimmy Carter Library is located at 441 Freedom Parkway, Atlanta, GA 30307-1498. The phone number is 404-865-7100 and the fax number is 404-865-7102. The e-mail address is carter.library@nara.gov.

(j) Ronald Reagan Library is located at 40 Presidential Dr., Simi Valley, CA 93065-0699. The phone number is 800-410-8354 or 805-577-4000 and the fax number is 805-577-4074. The e-mail address is reagan.library@nara.gov.

(k) George Bush Library is located at 1000 George Bush Drive West, College Station, TX 77845. The phone number is 979-691-4000 and the fax number is 979-691-4050. The e-mail address is bush.library@nara.gov.

(l) William J. Clinton Library is located at 1200 President Clinton Avenue, Little Rock, AR 72201. The phone number is 501-374-4242 and the fax number is 501-244-2883. The e-mail address is clinton.library@nara.gov.

§ 1253.4 Washington National Records Center.

Washington National Records Center is located at 4205 Suitland Road, Suitland, MD (mailing address: Washington National Records Center, 4205 Suitland Road, Suitland, MD, 20746-8001). The hours are posted at http://www.archives.gov. The phone number is 301-778-1600.

§ 1253.5 National Personnel Records Center.

(a) Military Personnel Records. NARA—National Personnel Records Center—Military Personnel Records is located at 9700 Page Ave., St. Louis, MO 63132-5100. The hours are posted at http://www.archives.gov.

(b) Civilian Personnel Records. NARA—National Personnel Records Center—Civilian Personnel Records is located at 111 Winnebago St., St. Louis, MO 63118-4199. The hours are posted at http://www.archives.gov.

§ 1253.6 Records Centers.

Hours for records center research rooms are posted at http://www.archives.gov. Contact information for each center is as follows:

(a) NARA—Northeast Region (Boston) is located at the Frederick C. Murphy Federal Center, 380 Trapelo Rd., Waltham, MA 02452-6399. The telephone number is 781-663-0139.

(b) NARA—Northeast Region (Pittsfield, MA) is located at 10 Conte Drive, Pittsfield, MA 02101. The telephone number is 413-236-3600.

(c) NARA—Mid Atlantic Region (Northeast Philadelphia) is located at 14700 Townsend Rd., Philadelphia, PA 19154-1096. The telephone number is 215-305-2000.

(d) NARA—Southeast Region (Atlanta) is located at 4712 Southpark Blvd., Ellenwood, GA 30294. The telephone number is 404-736-2820.

(e) NARA—Great Lakes Region (Dayton) is located at 3150 Springboro Road, Dayton, OH 45439. The telephone number is 937-425-0600.

(f) NARA—Great Lakes Region (Dayton-Miamisburg) is located at 8801 Kingsridge Drive, Dayton, OH 45458. The telephone number is (937) 425-0601.

(g) NARA—Great Lakes Region (Chicago) is located at 7358 S. Pulaski Rd., Chicago, IL 60629-5898. The telephone number is 773-948-9000.

(h) NARA—Central Plains Region (Lee's Summit, MO) is located at 200 Space Center Drive, Lee's Summit, MO 64064-1182. The telephone number is 816-823-6272.

(i) NARA—Central Plains Region (Lenexa) is located at 17501 W. 98th Street, Lenexa, KS 66219. The telephone number is 913-563-7600.

(j) NARA—Southwest Region (Fort Worth) is located at 1400 John Burgess Drive, Fort Worth, Texas 76140. The telephone number is 817-551-2000.

(k) NARA—Rocky Mountain Region (Denver) is located at Building 48, Denver Federal Center, West 6th Ave. and Kipling Street, Denver, CO (mailing address: P.O. Box 25307, Denver, CO 80225-0307). The telephone number is 303-407-5700.

(l) NARA—Pacific Region (San Francisco) is located at 1000 Commodore Dr., San Bruno, CA 94066-2350. The telephone number is 650-238-3500.

(m) NARA—Pacific Region (Riverside) is located at 23123 Cajalco Road, Perris, CA 92570-7298. The telephone number is 951-956-2000.

(n) NARA—Pacific Alaska Region (Seattle) is located at 6125 Sand Point Way, NE., Seattle, WA 98115-7999. The telephone number is 206-336-5115.

§ 1253.7 Regional Archives.

Hours for regional archives research rooms, including extended hours for microfilm research only, are posted at http://www.archives.gov. Contact information for each regional archives facility is as follows:

(a) The National Archives at Boston is located in the Frederick C. Murphy Federal Center, 380 Trapelo Rd., Waltham, MA 02452. The telephone number is 781-663-0144 or Toll Free 1-866-406-2379. The National Archives at Boston, Pittsfield Annex is located at 10 Conte Drive, Pittsfield, MA 01201-8230. The telephone number is 413-236-3600.

(b) The National Archives at New York City is located at 201 Varick St., New York, NY 10014-4811 (entrance is on Houston Street, between Varick and Hudson). The telephone number is 212-401-1620 or Toll Free 1-866-840-1752.

(c) The National Archives at Philadelphia is located at the Robert N.C. Nix Federal Building, 900 Market St., Philadelphia, PA 19107-4292 (entrance is on Chestnut Street between 9th and 10th Streets). The telephone number is 215-606-0100.

(d) The National Archives at Atlanta is located at 5780 Jonesboro Road, Morrow, GA 30260. The telephone number is 770-968-2100.

(e) The National Archives at Chicago is located at 7358 S. Pulaski Rd., Chicago, IL 60629-5898. The telephone number is 773-948-9000.

(f) The National Archives at Kansas City is located at 400 West Pershing Road, Kansas City, MO 64108. The telephone number is 816-268-8000.

(g) The National Archives at Fort Worth is located at 501 West Felix St., Bldg. 1, Dock 1, Fort Worth, TX (mailing address: P.O. Box 6216, Fort Worth, TX, 76115-0216). The telephone number is 817-334-5525.

(h) The National Archives at Denver: The textual research room is located at Building 48, Denver Federal Center, West 6th Ave. and Kipling Street, Denver, CO. The telephone number is 303-407-5740. The microfilm research room is located at Building 46, Denver Federal Center, West 6th Ave. and Kipling Street, Denver, CO. (mailing address: P.O. Box 25307, Denver, CO 80225-0307). The telephone number is 303-407-5751.

(i) The National Archives at Riverside is located at 23123 Cajalco Road, Perris, CA 92570-7298. The telephone number is 951-956-2000.

(j) The National Archives at San Francisco is located at 1000 Commodore Dr., San Bruno, CA 94066-2350. The telephone number is 650-238-3501.

(k) The National Archives at Seattle is located at 6125 Sand Point Way, NE., Seattle, WA 98115-7999. The telephone number is 206-336-5115.

(l) The National Archives at Anchorage is located at 654 West Third Avenue, Anchorage, AK 99501-2145. The telephone number is 907-261-7820.

(m) The National Archives at St. Louis, the National Personnel Records Center archival research room is located at 9700 Page Ave., St. Louis, MO 63132-5100. The telephone number is 314-801-9195.

§ 1253.8 Federal Register.

The location and business hours of the Office of the Federal Register are posted at http://www.archives.gov, and codified in 1 CFR 2.3.

§ 1253.9 Federal holidays.

(a) NARA research rooms are closed on all Federal holidays.

(b) The exhibit areas in the National Archives Building are closed on Thanksgiving and December 25.

(c) The Presidential library museums are open every day except Thanksgiving, December 25, and January 1 (with the exception of the Lyndon Baines Johnson Library which is only closed December 25).

§ 1253.10 Notification process for changes in hours.

(a) NARA will follow the procedure found in § 1253.10(c) when proposing to change hours of operations for research rooms, exhibit areas and museums, except as noted in § 1253.10(d).

(b) Changing hours of operations for research rooms, exhibit areas and museums may not be arbitrary. Proposed changes must be documented by evidence of a business need to change the hours of operation.

(c) The notification process must proceed as follows:

(1) Post a notice on http://www.archives.gov.

(2) Post notices in areas visible to the public in their research room, exhibit areas or museum.

(3) Issue a press release, e-mail notification, or other means normally used by that unit to notify the public of events at their location.

(4) These notices will provide written determination justifying the change in hours.

(d) In the event that emergency changes to hours of operations for research rooms, exhibit areas and museums are necessary, including but not limited to inclement weather, NARA units will give as much advance notice to the public as possible. Emergency notification will be posted at http://www.archives.gov.

PART 1254—USING RECORDS AND DONATED HISTORICAL MATERIALS

2. The authority citation for part 1254 continues to read as follows:

Authority: 44 U.S.C. 2104(a)

3. Amend § 1254.4 by revising paragraph (b) to read as follows:

§ 1254.4 Where and when are documents available to me for research?

* * * * *

(b) The locations of NARA's research rooms are shown in part 1253 of this chapter. Hours for research rooms are posted at http://www.archives.gov. Contact our facilities directly for information about their particular holdings. A facility or unit director may authorize that documents be made available at times other than the times specified.

* * * * *

PART 1280—USE OF NARA FACILITIES

4. The authority citation for part 1280 continues to read as follows:

Authority: 44 U.S.C. 2104(a)

5. Revise § 1280.62 to read as follows:

§ 1280.62 When are the exhibit areas in the National Archives Building open?

(a) The exhibit areas' hours of operation are posted at http://www.archives.gov. Last admission to the exhibit areas of the building will be no later than 30 minutes before the stated closing hour. The Archivist of the United States reserves the authority to close the exhibit areas to the public at any time for special events or other purposes. The building is closed on Thanksgiving and December 25.

6. Revise § 1280.92(a) to read as follows:

§ 1280.92 When are the Presidential library museums open to the public?

(a) The Presidential library museums are open every day except Thanksgiving, December 25, and January 1 (with the exception of the Lyndon Baines Johnson Library which is only closed December 25). For more specific information about museum hours, please contact the libraries directly or visit the NARA Web site at http://www.archives.gov. Hours for the Presidential libraries' research rooms are also posted at http://www.archives.gov.

* * * * *

Dated: November 16, 2010.
Adrienne C. Thomas,
Deputy Archivist of the United States.

[FR Doc. 2010-29468 Filed 11-23-10; 8:45 am]

BILLING CODE 7515-01-P